DEPARTMENT OF THE INTERIOR

Fish and Wildlife Service

Notice of Extension for Public Review of a revised Environmental Assessment/Habitat Conservation Plan and Implementing Agreement Related to Application for an Incidental Take Permit for the Magic Carpet Woods Association Project, Leelanau Township, Leelanau County, Michigan

AGENCY: Fish and Wildlife Service, Interior.

ACTION: Notice of availability; extension of comment period.

SUMMARY: This document announces an extension of the comment period for an additional 30 days to allow review of the Implementing Agreement which was inadvertently omitted from the package for public review. Comments on the revised draft Environmental Assessment/Habitat Conservation Plan (EA/HCP) will also be accepted during this period. For additional information, the original announcement regarding the notice of availability of a revised draft EA/HCP for an Incidental Take Permit for the Magic Carpet Woods Association Project, Leelanau Township, Leelanau County, Michigan was in the Federal Register on November 13, 2000, beginning on page 67753. Copies of the documents can be obtained by contacting the Service personnel listed in the original announcement. The EA/HCP and Implementing Agreement can also be reviewed via the internet at “http://midwest.fws.gov/nepa”

DATES: Written comments must be received on or before COB January 22, 2001.

FOR FURTHER INFORMATION CONTACT: Mr. Peter Fasbender, Regional HCP Coordinator, U.S. Fish and Wildlife Service, Fort Snelling, Minnesota, 55111, telephone (612)713-5343 or e-mail peter_fasbender@fws.gov.

Dated: December 15, 2000.
Charlie Wooley,
Assistant Regional Director, Ecological Services, Region 3, Fort Snelling, Minnesota.

[FR Doc. 00-32573 Filed 12-20-00; 8:45 am]

BILLING CODE 4310-55-P